DEPARTMENT OF HEALTH AND HUMAN SERVICES

Food and Drug Administration

21 CFR Part 573

Food Additives Permitted in Feed and Drinking Water of Animals; Poly(2-vinylpyridine-co-styrene); Salts of Volatile Fatty Acids

AGENCY: Food and Drug Administration, HHS.

ACTION: Final rule; technical amendment.

SUMMARY: The Food and Drug Administration (FDA) is amending the animal food additive regulations to correct the specifications for two food additives used in cattle feed. Incorrect symbols describing permitted levels of heavy metals such as lead and arsenic are being corrected with text to reflect the maximum permitted levels of these two impurities in these food additives. This action is being taken to improve the accuracy of the agency's regulations.

DATES: This rule is effective March 18, 2005.

FOR FURTHER INFORMATION CONTACT: Sharon Benz, Center for Veterinary Medicine (HFV-220), Food and Drug Administration, 7519 Standish Pl., Rockville, MD 20855, 240-453-6864, e-mail: sbenz@cvm.fda.gov.

SUPPLEMENTARY INFORMATION: FDA has found that part 573 (21 CFR part 573) of the Code of Federal Regulations does not accurately reflect the approved specifications for two food additives used in cattle feed, poly(2-vinylpyridine-co-styrene) and salts of volatile fatty acids. The greater than symbols in the tables describing the permitted levels of heavy metals such as lead and arsenic were incorrect. FDA is amending the regulations in §§ 573.870 and 573.914 to correctly reflect the maximum permitted levels of these two impurities in these food additives. This action is being taken to improve the accuracy of the agency's regulations.

Publication of this document constitutes final action on these changes under the Administrative Procedure Act (5 U.S.C. 553). Notice and public procedure are unnecessary because FDA is merely correcting nonsubstantive errors.

List of Subjects in 21 CFR 573

Animal feeds, Food additives.

Therefore, under the Federal Food, Drug, and Cosmetic Act and under authority delegated to the Commissioner of Food and Drugs and redelegated to the Center for Veterinary Medicine, 21 CFR part 573 is amended as follows:

PART 573—FOOD ADDITIVES PERMITTED IN FEED AND DRINKING WATER OF ANIMALS

1. The authority citation for 21 CFR part 573 continues to read as follows:

Authority: 21 U.S.C. 321, 342, 348.

2. Section 573.870 is amended in paragraph (a) in the table by revising the entries for “Heavy metals such as lead” and “Arsenic” to read as follows:

§ 573.870 Poly(2-vinylpyridine-co-styrene).

(a) * * *

Component/property | Limitation
* * * * *
Heavy metals such as lead | 10 parts per million maximum.
Arsenic | 3 parts per million maximum.

3. Section 573.914 is amended in the tables in paragraphs (b)(1) and (b)(2) by revising the entries for “Arsenic” and “Heavy metals as lead” to read as follows:

§ 573.914 Salts of volatile fatty acids.

(b) * * *

(1) * * *

Components | Amount
* * * * *
Arsenic | 3 parts per million maximum.
Heavy metals such as lead | 10 parts per million maximum.

(2) * * *

Components | Amount
* * * * *
Arsenic | 3 parts per million maximum.
Heavy metals such as lead | 10 parts per million maximum.

Dated: March 8, 2005.
Stephen F. Sundlof,
Director, Center for Veterinary Medicine.

[FR Doc. 05-5344 Filed 3-17-05; 8:45 am]

BILLING CODE 4160-01-S